DEPARTMENT OF TRANSPORTATION

Pipeline and Hazardous Materials Safety Administration

Hazardous Materials: Notice of Applications for Special Permits

AGENCY: Pipeline and Hazardous Materials Safety Administration (PHMSA), DOT.

ACTION: Notice of actions on Special Permit Applications.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 26, 2017.

Address Comments to: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT:

Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(13); 49 CFR 1.53(6)).

Issued in Washington, DC, on June 1, 2017.
Donald Burger,
Chief, Office of the Special Permits and Approvals.

Special Permits Data
Application No. | Docket No. | Applicant | Regulation(s) affected | Nature of the special permits thereof
11180-M |  | AFFIVAL INC | 173.24(c) | To modify the special permit to authorize metal tubes with a decreased diameter and an increased length to be authorized under the special permit.
11489-M |  | TK Holdings, Inc | 173.56(b), 172.320 | To modify the special permit to remove language that has been incorporated into the regulations.
11911-M |  | TRANSFER FLOW, INC | 177.834(h), 178.700(c)(1) | To authorize an additional fuel type to be added to the permit.
14335-M |  | RINCHEM COMPANY, INC | 177.848(d), 172.301(c), 172.302(c) | To modify the special permit to authorize a change in ventilation requirements to allow for a refrigeration/blower ventilation system.
15070-M |  | CARLETON TECHNOLOGIES, INC | 180.205, 173.302A, 173.304A | To modify the special permit to clarify the heat treatment for brass liners, and allow transportation of cylinders for foreign military options along with U.S.
16011-M |  | AMERICASE, INC | 173.185(f), 172.500, 172.600, 172.700(a), 172.200, 172.400, 172.300 | To modify the special permit to clarify language about watt hours, remove unnecessary language about lithium metal batteries and to harmonize the permit with the 19th revised edition of the UN Model Regulations and Amendment 38-16 of the IMDG Code.
20220-N |  | AGILITY FUEL SYSTEMS, INC | 173.220(a) | To authorize the transportation in commerce of compressed natural gas fuel systems that are not part of an internal combustion engine.
20348-N |  | WRIGHTSPEED, INC | 173.185(a) | To authorize the transportation in commerce of prototype lithium ion batteries by cargo-only aircraft.
20351-M |  | ROEDER CARTAGE COMPANY, INCORPORATED | 180.407(c), 180.407(e), 180.407(e), 180.407(f) | To modify the special permit to authorize additional trailers to transport stabilized acrylonitrile.
20361-N |  | KEITH HUBER CORPORATION | 178.345-3(f)(3) | To authorize the manufacture, mark, sale, and use of non-DOT specification cargo tanks to transport gasoline.
20374-N |  | SCANA CORPORATION | 173.427(b), 173.403, 173.465(c), 173.465(d) | To authorize the transportation in commerce of SCO-II material which has fixed and non-fixed contamination levels on the inaccessible surface area in excess of that authorized.
20387-N |  | TECHNIP STONE & WEBSTER PROCESS TECHNOLOGY, INC | 173.301(f), 173.301(g)(1), 178.71(q)(1), 178.71(q)(2), 178.71(q)(3), 173.302a(a), 173.304a(a) | To authorize the transportation in commerce of non-DOT specification bundled cylinders.
20388-N |  | UNITED PARCEL SERVICE, INC | 175.33, 177.817, 172.202(e) | To authorize the transportation in commerce of non hazardous materials as hazardous materials to test the effectiveness of the applicant's electronic system.
20427-M |  | SPACE SYSTEMS/LORAL, LLC | 173.220 | To authorize the transportation in commerce of machinery or fuel tanks containing more than 500 ml of fuel.
20438-N |  | TOYOTA MOTORSPORT GMBH | 172.101(j), 173.185(a) | To authorize the transportation in commerce of prototype lithium ion batteries in excess of 35 kg by cargo-only aircraft.
20458-N |  | KAVOK EIR, TOV | 172.204(c)(3), 172.204(c)(3), 175.30(a)(1), 173.27(b)(2), 173.27(b)(3) | To authorize the transportation in commerce of certain explosives which are forbidden for transport by cargo only aircraft.
20460-N |  | KALITTA AIR, L.L.C | 172.101(j)(1), 175.30(a)(1), 173.27(b)(2), 173.27(b)(3) | To authorize the transportation of explosives forbidden aboard aircraft to be transported aboard cargo-only aircraft.
20461-N |  | SARASOTA AVIONICS, INC | 172.101 | Application for Party Status to DOT-SP10996.
20462-N |  | SOUTHERN CONTAINER, LLC | 172.203(a), 180.352(d)(1)(ii), 178.801(f) | Special Permit 16323 to allow for the installation of a tested inner receptacle of a composite intermediate bulk container without subjecting the inner receptacle to a further leakproofness test after installation. To cover all hazardous materials authorized in the 172.101 Hazardous Materials Table to be transported in UN 31HA1 composite IBCs. A sample of these materials was chosen for the Hazardous Materials section of this application in order to advance the application process.
20465-N |  | TOYOTA MOTOR SALES USA INC | 172.301(c), 172.446(b) | To authorize the use of Class 9 labels whose vertical stripes are not equal in size.
20467-N |  | CHEMTRONICS INC | 171.23(b), 173.304a(a), 171.8 | To authorize the transportation in commerce of certain DOT Specification 2Q containers containing hazardous materials identified in paragraph 6 as ORM-D materials.
20468-N |  | KALITTA AIR, L.L.C | 172.204(c)(3), 172.204(c)(3), 175.30(a)(1), 173.27(b)(2), 173.27(b)(3) | To authorize the transportation in commerce of anhydrous ammonia by cargo aircraft, which if forbidden in the regulations.
20472-N |  | AVIAKOMPANIYa UKRAINA-AEROALYANS, PrAT | 175.30(a)(1), 173.27(b)(2), 173.27(b)(3) | To authorize the transportation in commerce of explosives by cargo aircraft which is forbidden by the regulations.

[FR Doc. 2017-12129 Filed 6-23-17; 8:45 am]

BILLING CODE 4909-60-M